DEPARTMENT OF JUSTICE

Office of Justice Programs

[OJP (OVC) Docket No. 1609]

Meeting of the SANE/SART AI/AN Initiative Committee

AGENCY: Office for Victims of Crime, Justice.

ACTION: Notice of meeting.

SUMMARY: The National Coordination Committee on the Sexual Assault Nurse Examiner (SANE) Sexual Assault Response Team (SART) American Indian/Alaskan Native (AI/AN) Initiative (“SANE/SART AI/AN Initiative Committee” or “Committee”) will meet to carry out its mission to provide valuable advice to assist the Office for Victims of Crime (OVC) to promote culturally relevant, victim-centered responses to sexual violence within AI/AN communities.

Dates and Locations: The meeting will be held on the reservation of the Agua Caliente Band of Cahuilla Indians at the Agua Caliente Spa Hotel, located at E. Tahquitz Canyon Way and N. Calle Encilia, Palm Springs, California 92262, on Tuesday, December 4, 2012, and Wednesday, December 5, 2012, from 9:00 a.m. to 5:00 p.m. PST.

FOR FURTHER INFORMATION CONTACT: Kathleen Gless, Designated Federal Officer (DFO) for the SANE/SART AI/AN Initiative Committee, Office for Victims of Crime, Office of Justice Programs, 810 7th Street NW., Washington, DC 20531; Phone: (202) 307-6049 [note: this is not a toll-free number]; Email: kathleen.gless@usdoj.gov.

SUPPLEMENTARY INFORMATION: The National Coordination Committee on the Sexual Assault Nurse Examiner (SANE) Sexual Assault Response Team (SART) American Indian/Alaskan Native (AI/AN) Initiative (“SANE/SART AI/AN Initiative Committee” or “Committee”) was established by the Attorney General to provide valuable advice to OVC to encourage the coordination federal, tribal, state, and local efforts to assist victims of sexual violence within AI/AN communities, and to promote culturally relevant, victim-centered responses to sexual violence within those communities.

Meeting Agenda: The agenda will include: (a) Traditional opening ceremonies, welcome, and introductions; (b) remarks from the Acting Director of OVC; (c) presentations by and about the AI/AN SANE-SART Initiative demonstration sites and federal Working Groups; (d) small and large group discussions; (e) the development of recommendations regarding the coordination of federal partners to address sexual violence; and (f) a closing ceremony and adjournment.

The meeting is open to the public. Photo identification will be required. Space is limited.

Kathleen Gless,
Victim Justice Program Specialist, Designated Federal Official—SANE-SART AI/AN Initiative Committee, Office for Victims of Crime.

[FR Doc. 2012-27789 Filed 11-14-12; 8:45 am]

BILLING CODE 4410-18-P